DEPARTMENT OF COMMERCE

International Trade Administration

15 CFR Part 301

Instruments and Apparatus for Educational and Scientific Institutions

CFR Correction

In Title 15 of the Code of Federal Regulations, Parts 300 to 799, revised as of January 1, 2015, on page 18, in § 301.8, in paragraph (b), remove the term “Customs” and add “Customs and Border Protection” in its place.

[FR Doc. 2015-28282 Filed 11-5-15; 8:45 am]

BILLING CODE 1505-01-D